DEPARTMENT OF THE INTERIOR

Fish and Wildlife Service

[FWS-R2-ES-2010-N066; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before May 17, 2010.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave. SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-02368A

Applicant: Martin Schlaefer, Syracuse, New York.

Applicant requests a new permit for research and recovery purposes to conduct presence/absence surveys for Sonoran tiger salamander (Ambystoma tigirium stebbinsi) within Arizona.

Permit TE-07059A

Applicant: Paul Marsh, Chandler, Arizona.

Applicant requests a new permit for research and recovery purposes to conduct presence/absence surveys for the following species: Humpback chub (Gila cypha), bonytail chub (Gila elegans), Virgin River chub (Gila robusta seminuda), woundfin (Plagopterus argentissimus), Colorado pikeminnow (Ptychocheilus lucius), razorback sucker (Xyrauchen texanus), desert pupfish (Cyprinodon macularius), Yaqui topminnow (Poeciliopsis occidentalis sonorensis), Quitobaquito desert pupfish (Cyprinodon macularius eremus), Gila topminnow (Poeciliopsis occidentalis), and Gila chub (Gila intermedia) within Arizona, Nevada, and California.

Permit TE-07308A

Applicant: Debbie Buecher, Tucson, Arizona.

Applicant requests a new permit for research and recovery purposes to conduct presence/absence surveys for lesser long-nosed bat (Leptonycteris yerbabuenae) within Arizona.

Permit TE-178778

Applicant: Marks Lab of Aquatic Ecology, Flagstaff, Arizona.

Applicant requests an amendment to a current permit for research and recovery purposes to conduct presence/absence surveys for bonytail chub (Gila elegans) within Texas.

Permit TE-07360A

Applicant: Nancy Nicolai, Albuquerque, New Mexico.

Applicant requests a new permit for research and recovery purposes to conduct presence/absence surveys for southwestern willow flycatcher (Empidonax taillii extimus) within New Mexico.

Permit TE-819473

Applicant: National Park Service—Grand Canyon National Park, Grand Canyon, Arizona.

Applicant requests an amendment to a current permit for research and recovery purposes to conduct presence/absence surveys for humpback chub (Gila cypha) and razorback sucker (Xyrauchen texanus) within Arizona.

Permit TE-160521

Applicant: Tetra Tech, Salt Lake City, Utah.

Applicant requests an amendment to a current permit for research and recovery purposes to conduct presence/absence surveys for southwestern willow flycatcher (Empidonax taillii extimus) within Arizona, Colorado, and Utah.

Authority: 16 U.S.C. 1531 et seq.

Dated: April 8, 2010.
Thomas L Bauer,
Acting Regional Director, Southwest Region, Fish and Wildlife Service.

[FR Doc. 2010-8719 Filed 4-15-10; 8:45 am]

BILLING CODE 4310-55-P